Title 3—

The President

Proclamation

Veterans Day, 2009 8450

By the President of the United States of America

A Proclamation

We have a sacred trust with those who wear the uniform of the United States of America. From the Minutemen who stood watch over Lexington and Concord to the service members who served in Iraq and Afghanistan, American veterans deserve our deepest appreciation and respect. Our Nation’s servicemen and women are our best and brightest, enlisting in times of peace and war, serving with honor under the most difficult circumstances, and making sacrifices that many of us cannot begin to imagine. Today, we reflect upon the invaluable contributions of our country’s veterans and reaffirm our commitment to provide them and their families with the essential support they were promised and have earned.

Caring for our veterans is more than a way of thanking them for their service. It is an obligation to our fellow citizens who have risked their lives to defend our freedom.

This selflessness binds our fates with theirs, and recognizing those who were willing to give their last full measure of devotion for us is a debt of honor for every American.

We also pay tribute to all who have worn the uniform and continue to serve their country as civilians. Many veterans act as coaches, teachers, and mentors in their communities, selflessly volunteering their time and expertise. They visit schools to tell our Nation’s students of their experiences and help counsel our troops returning from the theater of war. These men and women possess an unwavering belief in the idea of America: no matter where you come from, what you look like, or who your parents are, this is a place where anything is possible. Our veterans continue to stand up for those timeless American ideals of liberty, self-determination, and equal opportunity.

On Veterans Day, we honor the heroes we have lost, and we rededicate ourselves to the next generation of veterans by supporting our Soldiers, Sailors, Airmen, Marines, and Coast Guardsmen as they return home from duty. Our grateful Nation must keep our solemn promises to these brave men and women and their families. They have given their unwavering devotion to the American people, and we must keep our covenant with them.

With respect for and in recognition of the contributions our servicemen and women have made to the cause of peace and freedom around the world, the Congress has provided (5 U.S.C. 6103(a)) that November 11 of each year shall be set aside as a legal public holiday to honor our Nation’s veterans.

NOW, THEREFORE, I, BARACK OBAMA, President of the United States of America, do hereby proclaim November 11, 2009, as Veterans Day. I encourage all Americans to recognize the valor and sacrifice of our veterans through appropriate public ceremonies and private prayers. I call upon Federal, State, and local officials to display the flag of the United States and to participate in patriotic activities in their communities. I call on all Americans, including civic and fraternal organizations, places of worship, schools, and communities to support this day with commemorative expressions and programs.

IN WITNESS WHEREOF, I have hereunto set my hand this thirtieth day of October, in the year of our Lord two thousand nine, and of the Independence of the United States of America the two hundred and thirty-fourth.

[FR Doc. E9-26767

Filed 11-3-09; 8:45 am]

Billing code 3195-W9-P